DEPARTMENT OF THE INTERIOR

Bureau of Indian Affairs

[212A2100DD/AAKC001030/A0A501010.999900253G; Docket No. DOI-2021-0010]

Tribal Listening Sessions on Climate Change and Discretionary Grants

AGENCY: Office of the Secretary, Interior.

ACTION: Notice of Tribal listening sessions.

SUMMARY: The Department invites representatives of federally recognized Tribes to participate in three upcoming virtual listening sessions focused on climate change and Tribal Nations and two upcoming virtual listening sessions focused on Bureau of Indian Affairs (BIA) discretionary grants for Tribes. The Department also invites Tribal youth to the first scheduled climate listening session, which is focused on Tribal youth and climate. Climate change, equity, and environmental justice are among this Administration's top priorities. The Department would like to ensure that its efforts and the initiatives it develops to meet these priorities and to effectively administer discretionary grants programs are shaped and designed based on feedback and information received from across Indian Country and Alaska Native Villages.

DATES: Please see the SUPPLEMENTARY INFORMATION section of this notice for dates of the sessions.

ADDRESSES: Please see the website for updates https://www.bia.gov/bia/ots/tribal-climate-resilience-program for information on joining the Tribal climate sessions. Please see the website https://www.doi.gov/ppa/equity/13985 for updates and information on joining the Tribal discretionary grants sessions. You may submit your comments though the Federal eRulemaking Portal: https://www.regulations.gov. Search by docket number “DOI-2021-0010” and follow the instructions for submitting comments.

FOR FURTHER INFORMATION CONTACT: Rachael Novak, BIA Tribal Resilience Coordinator, (505) 563-5253, Tribal.Climate@bia.gov.

SUPPLEMENTARY INFORMATION: The Department of the Interior (DOI) is pleased to announce three upcoming virtual listening sessions for Tribes focused on climate change and Tribal Nations and two upcoming virtual listening sessions for Tribes focused on Tribal discretionary grants. Climate change, equity, and environmental justice are among this Administration's top priorities. The Department would like to ensure that its efforts and the initiatives it develops to meet these priorities are shaped and designed based on feedback and information received from across Indian Country and Alaska Native Villages. Such initiatives include the Department's Equity Plan, Civilian Climate Corps, the Indian Youth Service Corps, Tribal climate science technical support, climate adaptation and resilience planning and implementation grants, economic development grants, and many more. These listening sessions will inform DOI-wide and Bureau of Indian Affairs (BIA)-led efforts.

Tribes are eligible for a range of discretionary grant programs administered by the BIA, Bureau of Indian Education, and other DOI bureaus. These grant programs can provide funding to support Tribal operations, economic development, education, resilience, preservation of historic places, and other key functions. By identifying and addressing barriers to accessing DOI discretionary grants, the Department can better support Tribes in improving government infrastructure, community infrastructure, education, job training, climate adaptation planning and implementation capacity, and employment opportunities along with other components of long-term sustainable development that work to improve quality of life for their members. These listening sessions will inform DOI efforts to improve access to Tribal discretionary grants.

We are scheduling the following listening sessions to create opportunities for sharing and dialogue about these programs and to learn what Tribes see as important opportunities. Each session has a different focus, as noted below. The following general questions for each session are provided to facilitate discussion during the sessions. More specific questions are provided on the BIA Tribal Climate Resilience website: https://www.bia.gov/bia/ots/tribal-climate-resilience-program and the Department's website pertaining to Executive Order 13985: https://www.doi.gov/ppa/equity/13985.

Session 1: Tribal Youth and Climate

Date: October 13, 2021

Time: 3 p.m.-5 p.m. ET

Note: We particularly invite Tribal youth to this session. There is a downloadable parental/guardian consent form at the BIA Tribal Climate website above for participation of minors. Please submit completed forms to Tribal.Climate@bia.gov.

Questions for discussion:

1. How is climate change impacting your Tribal Nation and your community?

2. How can you help connect people of all generations to work together to solve community problems and address climate challenges with honor & respect for the land and environment? And how can DOI help empower you and your Tribal Nation in these efforts?

Session 2: Part I—Tribal Climate Adaptation and Mitigation

Date: October 28, 2021

Time: 12 p.m.-1 p.m. ET

Questions for discussion:

1. What are your top priorities surrounding climate adaptation, mitigation, and implementation, and what are the science needs to support these priorities?

2. Do you have a climate adaptation plan(s) for your Tribe/Tribal Program? How are they being implemented? What are the barriers to implementing them?

Session 2: Part II—Relocation, Managed Retreat, Protect-in-Place for Lower 48 Tribes

Date: October 28, 2021

Time: 2 p.m.-3 p.m. for Tribes in Eastern, Midwest, Great Plains, Eastern Oklahoma, and Southern Plains Region, 3 p.m.-4 p.m. Tribes in Rocky Mountain, Southwest, Western, Navajo, Pacific, and Northwest Regions

1. Is your Tribe dealing with more frequent and severe climate change impacts (e.g., flooding, erosion, sea level rise, etc.) that are likely to require partial or complete infrastructure relocation?

2. If so, what are the resources (financial, technical, etc.) needed to assist the process? What are the barriers?

Session 3: Relocation, Managed Retreat, and Protect-in-Place Issues in Alaska

Date: To be held during the BIA Providers' Conference the week of November 29, 2021

Time: To be announced (see https://www.bia.gov/bia/ots/tribal-climate-resilience-program for updates)

Questions for discussion:

1. What resources have you successfully obtained thus far? What successes have you had?

2. What challenges have you experienced? What assistance do you need from the Federal government to address this issue?

Sessions 4 & 5: Tribal Discretionary Grants

Date: October 20, 2021

Time: 8 p.m.-10 p.m. ET

Questions for discussion:

1. If you have applied for a discretionary grant administered by DOI in the past, what has been your experience?

2. If you have not applied for discretionary grants administered by DOI, why not? What would make it easier for you access grant opportunities with DOI?

3. What are the barriers to applying for grant opportunities with DOI?

4. How can DOI remove or reduce barriers that Tribal Nations and communities face when they participate or attempt to participate in DOI-administered grant opportunities?

Session 5: Tribal Discretionary Grants

Date: October 27, 2021

Time: 5 p.m.-7 p.m. ET

Questions for discussion:

1. If you have applied for a discretionary grant administered by DOI in the past, what has been your experience?

2. If you have not applied for discretionary grants administered by DOI, why not? What would make it easier for you access grant opportunities with DOI?

3. What are the barriers to applying for grant opportunities with DOI?

4. How can DOI remove or reduce barriers that Tribal Nations and communities face when they participate or attempt to participate in DOI-administered grant opportunities?

Bryan Newland,
Assistant Secretary—Indian Affairs.

[FR Doc. 2021-21804 Filed 10-5-21; 8:45 am]

BILLING CODE 4337-15-P